DEPARTMENT OF LABOR

Employment and Training Administration

Workforce Investment Act of 1998 (WIA); Notice of Incentive Funding Availability Based on Program Year (PY) 2011 Performance

AGENCY: Employment and Training Administration, Labor.

ACTION: Notice.

SUMMARY: The Department of Labor (DOL), in collaboration with the Department of Education (ED), announces that 15 States are eligible to apply for Workforce Investment Act (WIA) (Pub. L. 105-220, 29 U.S.C. 2801 et seq.) incentive grant awards authorized by section 503 of the WIA.

DATES: The 15 eligible States must submit their applications for incentive funding to the Department of Labor by July 8, 2013.

ADDRESSES: Submit applications to the Employment and Training Administration, Office of Policy Development and Research, Division of Strategic Planning and Performance, 200 Constitution Avenue NW., Room N-5641, Washington, DC 20210, Attention: Karen Staha and Luke Murren. Telephone number: 202-693-3733 (this is not a toll-free number). Fax: 202-693-2766. Email: staha.karen@dol.gov and murren.luke@dol.gov. Information may also be found at the ETA Performance Web site: http://www.doleta.gov/performance. Additional information on how to apply can be found in Training and Employment Guidance Letter 20-01 Change 11, which will be forthcoming.

FOR FURTHER INFORMATION CONTACT: Luke Murren at Email Murren.Luke@dol.gov.

SUPPLEMENTARY INFORMATION: Fifteen States (see Appendix) qualify to receive a share of the $10,428,273 available for incentive grant awards under WIA section 503. These funds, which were contributed by the Department of Education from appropriations for the Adult Education and Family Literacy Act (AEFLA), are available for the eligible States to use through June 30, 2015, to support innovative workforce development and education activities that are authorized under title IB (Workforce Investment Systems) or title II (AEFLA) of WIA, or under the Carl D. Perkins Career and Technical Education Act of 2006 (Perkins IV), 20 U.S.C. 2301 et seq., as amended by Pub. L. 109-270. In order to qualify for a grant award, a State must have exceeded its performance levels for WIA title IB and adult education (AEFLA). (Perkins IV removed the requirement that funds be reserved to carry out section 503 of WIA which only referenced P.L. 105-332 (Perkins III); thus, the Department of Labor (DOL) and the Department of Education (ED) no longer consider States' performance levels under Perkins IV in determining eligibility for incentive grants under Section 503 of WIA.) The performance related goals used to determine a State's eligibility status include: employment after training and related services, retention in employment, and improvements in literacy levels, among other measures. After review of the performance data submitted by States to DOL and to ED, each Department determined for its program(s) which States exceeded their performance levels (the Appendix at the bottom of this notice lists the eligibility of each State by program). These lists were compared, and States that exceeded their performance levels for both programs are eligible to apply for and receive an incentive grant award. Due to the fact that there were insufficient funds to award the minimum amount mentioned in WIA section 503, DOL used a formula where 95 percent of the total available funds were distributed evenly among all eligible states, and the additional five percent was determined by the Department of Labor and the Department of Education based on the provisions in 20 CFR 666.230(c)(1), and is proportional to the total funding received by these States for WIA title IB and AEFLA programs.

The States eligible to apply for incentive grant awards and the amounts they are eligible to receive are listed in the following chart:

State | Total award
Arizona | $696,551
Arkansas | 674,924
Georgia | 717,658
Idaho | 667,885
Kentucky | 688,486
Louisiana | 683,255
Minnesota | 683,360
Missouri | 692,377
New Hampshire | 665,342
New York | 768,000
Ohio | 729,340
Pennsylvania | 724,355
Rhode Island | 668,615
Tennessee | 697,963
West Virginia | 670,161

Signed in Washington, DC, this 17th day of May, 2013.
Jane Oates,
Assistant Secretary for Employment and Training.

APPENDIX
State | Incentive Grants PY 2011/FY 2012 Exceeded State Performance Levels: WIA (Title IB) | Incentive Grants PY 2011/FY 2012 Exceeded State Performance Levels: AEFLA (Adult Education) | Incentive Grants PY 2011/FY 2012 Exceeded State Performance Levels: WIA Title IB; AEFLA
Alabama |  |  |
Alaska |  |  |
Arizona | X | X | X
Arkansas | X | X | X
California |  |  |
Colorado | X |  |
Connecticut |  | X |
District of Columbia |  | X |
Delaware |  | X |
Florida |  |  |
Georgia | X | X | X
Hawaii | X |  |
Idaho | X | X | X
Illinois | X |  |
Indiana |  |  |
Iowa |  |  |
Kansas |  | X |
Kentucky | X | X | X
Louisiana | X | X | X
Maine |  |  |
Maryland | X |  |
Massachusetts | X |  |
Michigan | X |  |
Minnesota | X | X | X
Mississippi |  | X |
Missouri | X | X | X
Montana |  | X |
Nebraska |  |  |
Nevada | X |  |
New Hampshire | X | X | X
New Jersey | X |  |
New Mexico | X |  |
New York | X | X | X
North Carolina |  |  |
North Dakota | X |  |
Ohio | X | X | X
Oklahoma |  | X |
Oregon |  |  |
Pennsylvania | X | X | X
Puerto Rico |  |  |
Rhode Island | X | X | X
South Carolina | X |  |
South Dakota |  |  |
Tennessee | X | X | X
Texas | X |  |
Utah |  |  |
Vermont |  |  |
Virginia |  |  |
Washington | X |  |
West Virginia | X | X | X
Wisconsin |  |  |
Wyoming |  |  |
States in bold exceeded their performance levels for both AEFLA and WIA Title IB programs.

[FR Doc. 2013-12425 Filed 5-23-13; 8:45 am]

BILLING CODE 4510-FN-P